DEPARTMENT OF THE INTERIOR

National Park Service

Notice of Intent to Repatriate Cultural Items: Horner Collection, Oregon State University, Corvallis, OR; Correction

AGENCY: National Park Service, Interior.

ACTION: Notice; correction.

Notice is here given in accordance with the Native American Graves Protection and Repatriation Act (NAGPRA), 25 U.S.C. 3005, of the intent to repatriate cultural items in the possession of the Horner Collection, Oregon State University, Corvallis, OR, that meet the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

This notice corrects the number of unassociated funerary objects in the Notice of Intent to Repatriate Cultural Items published in the Federal Register of August 21, 2008 (FR Doc E8-19312, pages 49477-49479), by the removal of one string of beads.

The Federal Register notice of August 21, 2008, paragraph 3 is corrected by substituting the following paragraph:

The 16 cultural items are 1 club, 1 beaded flask, 9 utility baskets, 1 goblet-shaped basket, 1 small bag, 1 projectile point, 1 porcupine quill headband, and 1 string of beads or sash.

In the Federal Register of August 21, 2008, paragraph number 11 is corrected by substituting the following paragraph:

On June 8, 1973, the C.B Kennedy family and Ruth Kennedy, wife of Dr. N.L. Tartar, donated two baskets and a string of beads or sash to the Oregon State University Museum. The Horner collection does not have a provenience for these items. Tribal representatives of the Redding Rancheria, California have identified these items as Pit River in cultural affiliation and as items that would typically have been buried with the owner. Based on the consultation evidence, officials of the Horner Collection, Oregon State University reasonably believe the cultural items are unassociated funerary objects.

In the Federal Register of August 21, 2008, paragraph number 14 is corrected by substituting the following paragraph:

Officials of the Horner Collection, Oregon State University have determined that, pursuant to 25 U.S.C. 3001 (3(B), the 16 cultural items described above are reasonably believed to have been placed with or near individual human remains at the time of death or later as part of the death rite or ceremony and are believed, by a preponderance of the evidence, to have been removed from a specific burial site of a Native American individual. Officials of Horner Collection, Oregon State University also have determined that, pursuant to 25 U.S.C. 3001 (2), there is a relationship of shared group identity that can be reasonably traced between the unassociated funerary objects and the Pit River Tribe, California and Redding Rancheria, California.

Representatives of any other Indian tribe that believes itself to be culturally affiliated with the unassociated funerary objects should contact Sabah Randhawa, Executive Vice President and Provost, President's Office, Oregon State University, 600 Kerr Administration Building, Corvallis, OR 97331, telephone (541) 737-8260, before November 10, 2008. Repatriation of the unassociated funerary objects to the Redding Rancheria, California may proceed after that date if no additional claimants come forward.

The Horner Collection, Oregon State University is responsible for notifying the Alturas Indian Rancheria, California; Bear River Band of the Rohnerville Rancheria, California; Big Lagoon Rancheria, California; Big Valley Band of Pomo Indians of the Big Valley Rancheria, California; Blue Lake Rancheria, California; Bridgeport Paiute Indian Colony of California; Cachil DeHe Band of Wintun Indians of the Colusa Indian Community of the Colusa Rancheria, California; Cahto Indian Tribe of the Laytonville Rancheria, California; Cedarville Rancheria, California; Cher-Ae Heights Indian Community of the Trinidad Rancheria, California; Cloverdale Rancheria of Pomo Indians of California; Confederated Tribes of the Coos, Lower Umpqua, and Siuslaw Indians of Oregon; Confederated Tribes of the Grand Ronde Community of Oregon; Confederated Tribes of the Siletz Reservation, Oregon; Cortina Indian Rancheria of Wintu Indians of California; Coyote Valley Band of Pomo Indians of California; Dry Creek Rancheria of Pomo Indians of California; Elem Indian Colony of Pomo Indians of the Sulphur Bank Rancheria, California; Elk Valley Rancheria, California; Fort Bidwell Indian Community of the Fort Bidwell Reservation of California; Grindstone Indian Rancheria of Wintun-Wailaki Indians of California; Guidiville Rancheria of California; Hoopa Valley Tribe, California; Hopland Band of Pomo Indians of the Hopland Rancheria, California; Kashia Band of Pomo Indians of Stewarts Point Rancheria, California; Klamath Indian Tribe of Oregon; Lytton Rancheria of California; Manchester Band of Pomo Indians of the Manchester-Point Arena Rancheria, California; Middletown Rancheria of Pomo Indians of California; Modoc Tribe of Oklahoma; Pinoleville Pomo Nation, California; Pit River Tribe, California; Potter Valley Tribe, California; Quartz Valley Indian Community of the Quartz Valley Reservation of California; Redding Rancheria, California; Redwood Valley Rancheria of Pomo Indians of California; Resighini Rancheria, California; Robinson Rancheria of Pomo Indians of California; Round Valley Indian Tribes of the Round Valley Reservation, California; Rumsey Indian Rancheria of Wintun Indians of California; Scotts Valley Band of Pomo Indians of California; Sherwood Valley Rancheria of Pomo Indians of California; Smith River Rancheria, California; Susanville Indian Rancheria, California; Upper Lake Band of Pomo Indians of Upper Lake Rancheria of California; Utu Utu Gwaitu Paiute Tribe of the Benton Paiute Reservation, California; and Yurok Tribe of the Yurok Reservation, California that this notice has been published.

Dated: September 10, 2008
Sherry Hutt,
Manager, National NAGPRA Program.

[FR Doc. E8-23959 Filed 10-8-08; 8:45 am]

BILLING CODE 4312-50-S